DEPARTMENT OF TRANSPORTATION

Federal Aviation Administration

14 CFR Part 39

[Docket No. FAA-2005-21174; Directorate Identifier 2005-CE-23-AD]

RIN 2120-AA64

Airworthiness Directives; The New Piper Aircraft, Inc., Models PA-28-160, PA-28-161, PA-28-180, and PA-28-181 Airplanes

AGENCY: Federal Aviation Administration (FAA), DOT.

ACTION: Notice of proposed rulemaking (NPRM).

SUMMARY: The FAA proposes to adopt a new airworthiness directive (AD) for certain The New Piper Aircraft, Inc. (Piper) Models PA-28-160, PA-28-161, PA-28-180, and PA-28-181 airplanes that incorporate Petersen Aviation, Inc. Supplemental Type Certificate (STC) SA2660CE installed between April 20, 1998, and April 1, 2005, and incorporate Petersen Aviation, Inc. Service Bulletin SB98-1. This proposed AD would require you to replace the AN894-6-4 bushing screw thread expanders on the gascolator and bushing attached to the inlet of the top fuel pump with NAS1564-6-4J reducers and AN818-6 nuts. This proposed AD results from reports of fuel leaks during the post STC installation tests. We are issuing this proposed AD to prevent fuel fittings used in STC SA2660CE from leaking fuel in the engine compartment, which could result in an engine fire. This condition could lead to loss of control of the airplane.

DATES: We must receive any comments on this proposed AD by August 1, 2005.

ADDRESSES: Use one of the following to submit comments on this proposed AD:

• DOT Docket Web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Petersen Aviation, Inc., 984 K Road, Minden, Nebraska 68959; telephone: (308) 832-2050; facsimile: (308) 832-2311.

To view the comments on this proposed AD, go to http://dms.dot.gov. The docket number is FAA-2005-21174; Directorate Identifier 2005-CE-23-AD.

FOR FURTHER INFORMATION CONTACT: James P. Galstad, Aerospace Engineer, FAA, Wichita ACO, 1801 Airport Road, Mid-Continent Airport, Wichita, Kansas 67209; telephone: (316) 946-4135; facsimile: (316) 946-4107.

SUPPLEMENTARY INFORMATION:

Comments Invited

How do I comment on this proposed AD? We invite you to submit any written relevant data, views, or arguments regarding this proposal. Send your comments to an address listed under ADDRESSES. Include the docket number, “FAA-2005-21174; Directorate Identifier 2005-CE-23-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2005-21174; Directorate Identifier 2005-CE-23-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? We have received reports of fuel leaks found during post fuel pump checks on Piper Models PA-28-160, PA-28-161, PA-28-180, and PA-28-181 airplanes after STC SA2660CE was incorporated.

STC SA2660CE enables the referenced airplanes to run on leaded and unleaded automotive gasoline, 91 minimum antiknock index (RON+MON).

The STC replaces the Piper electric boost pump with two different electric boost pumps. Subsequently, Petersen Aviation, Inc. Service Bulletin 98-1 provides for installation of a fuel flow bypass that incorporates an o-ring seal fuel fitting (AN894-6-4 bushing screw thread expander) on the flared tube fitting (AN826-6 tee). The internal shape of the AN894-6-4 bushing screw thread expander is intended to use an o-ring seal, but there is no corresponding o-ring seal location on the AN826-6 tee.

The AN894-6-4 bushing screw thread expander has clearance machining cut for the mating screw threads but does not provide a seal against the cone surface of the AN826-6 tee.

What is the potential impact if FAA took no action? If not prevented, fuel fittings used in STC SA2660CE could leak fuel in the engine compartment. Failure of these fittings could result in an engine fire. This condition could lead to loss of control of the airplane.

Is there service information that applies to this subject? Petersen Aviation, Inc. has issued Service Bulletin PA-28-160, -161, -180, -181, Bulletin No. SB-05-2, dated April 12, 2005.

What are the provisions of this service information? The service bulletin includes procedures for replacing the two AN894-6-4 bushing screw thread expanders on the two AN826-6 tees with AN818-6 nuts and NAS1564-6-4J reducers.

FAA's Determination and Requirements of This Proposed AD

What has FAA decided? We have evaluated all pertinent information and identified an unsafe condition that is likely to exist or develop on other products of this same type design. For this reason, we are proposing AD action.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 50 airplanes in the U.S. registry.

What would be the cost impact of this proposed AD on owners/operators of the affected airplanes? We estimate the following costs to accomplish this proposed modification:

Labor cost | Parts cost | Total cost per airplane | Total cost on U.S. operators
1 work hour × $65 per hour = $65 | Petersen Aviation will provide parts at no cost | Peterson Aviation will cover the cost for labor | Petersen Aviation will cover the cost for parts and labor.

Authority for This Rulemaking

What authority does FAA have for issuing this proposed rulemaking action? Title 49 of the United States Code specifies the FAA's authority to issue rules on aviation safety. Subtitle I, Section 106 describes the authority of the FAA Administrator. Subtitle VII, Aviation Programs, describes in more detail the scope of the agency's authority.

We are issuing this proposed rulemaking under the authority described in Subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this proposed AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-21174; Directorate Identifier 2005-CE-23-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The New Piper Aircraft, Inc.: Docket No. FAA-2005-21174; Directorate Identifier 2005-CE-23-AD

When Is the Last Date I Can Submit Comments on This Proposed AD?

(a) We must receive comments on this proposed airworthiness directive (AD) by August 1, 2005.

What Other ADs Are Affected by This Action?

(b) None.

What Airplanes Are Affected by This AD?

(c) This AD affects Model PA-28-160, PA-28-161, PA-28-180, and PA-28-181 airplanes, serial numbers 28-671 through 28-5859, 28-7105001 through 28-7505261, 28-7690001 through 28-8590001, and all serial numbers thereafter, that:

(1) are certificated in any category;

(2) incorporate Peterson Aviation, Inc. Supplemental Type Certificate (STC) SA2660CE installed between April 20, 1998 and April 1, 2005; and

(3) incorporate Peterson Aviation, Inc. Service Bulletin SB98-1.

What Is the Unsafe Condition Presented in This AD?

(d) This AD is the result of reports of fuel leaks during the post STC installation tests. The actions specified in this AD are intended to prevent fuel fittings used in STC SA2660CE from leaking fuel in the engine compartment, which could result in an engine fire. This condition could lead to loss of control of the airplane.

What Must I Do To Address This Problem?

(e) To address this problem, you must do the following:

Actions | Compliance | Procedures
Replace the two AN894-6-4 bushing screw thread expanders on the two AN826-6 tees (one on the gascolator and the other one attached to a bushing (AN912-2J) attached to the inlet on the top of the top fuel pump) with NAS1564-6-4J reducers and AN818-6 nuts | At the next 100-hour or annual inspection that occurs following 30 days after the effective date of this AD, whichever occurs first | Follow Petersen Aviation, Inc. Service Bulletin PA-28-160, -161, -180, -181 Bulletin No. SB 05-2, dated April 12, 2005.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact James P. Galstad, Aerospace Engineer, FAA Wichita ACO, 1801 Airport Road, Mid-Continent Airport, Wichita, Kansas 67209; telephone: (316) 946-4135; facsimile: (316) 946-4107.

May I Get Copies of the Documents Referenced in This AD?

(g) To get copies of the documents referenced in this AD, contact Petersen Aviation, Inc., 984 K Road, Minden, Nebraska 68959; telephone: (308) 832-2050; facsimile: (308) 832-2311. To view the AD docket, go to the Docket Management Facility; U.S. Department of Transportation, 400 Seventh Street, SW., Nassif Building, Room PL-401, Washington, DC, or on the Internet at http://dms.dot.gov. The docket number is Docket No. FAA-2005-21174; Directorate Identifier 2005-CE-23-AD.

Issued in Kansas City, Missouri, on May 25, 2005.
David R. Showers,
Acting Manager, Small Airplane Directorate, Aircraft Certification Service.

[FR Doc. 05-10948 Filed 6-1-05; 8:45 am]

BILLING CODE 4910-13-P